FEDERAL ELECTION COMMISSION

Sunshine Act Meeting

AGENCY: Federal Election Commission

Date and Time: Tuesday, September 16, 2014 at 10:00 a.m.

Place: 999 E Street NW., Washington, DC.

Status: This meeting will be closed to the public.

Items To Be Discussed

Compliance matters pursuant to 2 U.S.C. 437g.

Matters concerning participation in civil actions or proceedings or arbitration.

Information the premature disclosure of which would be likely to have a considerable adverse effect on the implementation of a proposed Commission action.

* * * * *

Person to Contact for Information: Judith Ingram, Press Officer, Telephone: (202) 694-1220.

Shawn Woodhead Werth,
Secretary and Clerk of the Commission.

[FR Doc. 2014-21860 Filed 9-10-14; 8:45 am]

BILLING CODE 6715-01-P